DEPARTMENT OF ENERGY

Federal Energy Regulatory Commission

[Docket No. ER97-1523-076, et al.]

New York Independent System Operator, Inc., et al. Electric Rate and Corporate Filings

April 16, 2003.

The following filings have been made with the Commission. The filings are listed in ascending order within each docket classification.

1. New York Independent System Operator, Inc.

[Docket Nos. ER97-1523-076, OA97-470-068 and ER97-4234-066]

Take notice that on April 14, 2003, the New York Independent System Operator, Inc. (NYISO) filed with the Federal Energy Regulatory Commission (Commission) a compliance report, pursuant to the Commission's March 13, 2003 Order issued in the above-captioned proceedings, describing the steps it intends to take to ensure that Thunderstorm Alert-related costs are directly assigned to load serving entities in the New York City area.

The NYISO states that it has served a copy of this filing upon all parties listed on the official service lists in the above-captioned proceedings and on all market participants that have executed Service Agreements under the NYISO's Open-Access Transmission Tariff or its Market Administration and Control Area Services Tariff, and to the electric utility regulatory agencies in New York, New Jersey, and Pennsylvania.

Comment Date: May 5, 2003.

2. Entergy Services, Inc.

[Docket No. ER02-2014-014]

Take notice that on April 14, 2003, Entergy Services, Inc., on behalf of the Entergy Operating Companies, Entergy Arkansas, Inc., Entergy Gulf States, Inc., Entergy Louisiana, Inc., Entergy Mississippi, Inc., and Entergy New Orleans, Inc. (collectively Entergy), filed a compliance filing in response to the Commission's March 13, 2003, Order On Amended Generator Operating Limits Filing (March 13 Order) Entergy Servs., Inc., 102 FERC § 61,281. Entergy states that the compliance filing implements revisions to Attachment Q to the Entergy Open Access Transmission Tariff that were required by the March 13 Order and contains Entergy's status report on implementation of Attachment Q.

Comment Date: May 5, 2003.

3. PJM Interconnection, L.L.C.

[Docket No. ER03-404-002]

Take notice that on April 14, 2003, PJM Interconnection, L.L.C. (PJM) submitted for filing amendments to the provisions of PJM Open Access Transmission Tariff filed January 10, 2003, in Docket No. ER03-404-000 providing standard terms and conditions for independent system companies to operate within PJM in compliance with the Commission's March 14, 2003 Order.

PJM states that copies of this filing were served upon all parties of the Commission's Service List, all PJM members, and each state electric utility regulatory commission in the PJM region.

Comment Date: May 5, 2003.

4. Midwest Independent Transmission System Operator, Inc.

[Docket No. ER03-323-002]

Take notice that on April 14, 2003, the Midwest Independent Transmission System Operator, Inc. (Midwest ISO) tendered for filing proposed revisions to the Midwest ISO Open Access Transmission Tariff, FERC Electric Tariff, Second Revised Volume No. 1, in compliance with the Commission's March 13, 2003, Order Accepting Mitigation Measures Subject to Modifications and Ordering Technical Conference (March 13 Order), 102 FERC § 61,210. The Midwest ISO has requested an effective date on the later of December 1, 2003 or the first operation day of the Midwest ISO's “Day 2,” Day-Ahead Energy Markets consistent with the Commission's March 13 Order.

In addition, the Midwest ISO has indicated that it has electronically served a copy of this filing, without attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at www.midwestiso.org under the heading “Filings to FERC” for other interested parties in this matter. The Midwest ISO states it will provide hard copies to any interested parties upon request.

Comment Date: May 5, 2003.

5. Florida Power & Light Company

[Docket No. ER03-735-000]

Take notice that on April 11, 2003 Florida Power & Light Company (FPL) tendered for filing a Notice of Termination of an Interconnection & Operation Agreement (IOA) between FPL and CPV Gulfcoast, Ltd. (CPVG). FPL states that Termination of the IOA has been mutually agreed to by FPL and CPVG. FPL requests that the termination be made effective March 14, 2003, as mutually agreed by the parties.

FPL states that is has served copies of this filing to CPVG, the Florida Public Service Commission and the Commission's Service List.

Comment Date: May 2, 2003.

6. CAM Energy Products, LP

[Docket No. ER03-736-000]

Take notice that on April 11, 2003, CAM Energy Products, LP (CAM Energy) petitioned the Commission for acceptance of CAM Energy's Rate Schedule FERC No. 1; the granting of certain blanket approvals, including the authority to sell electricity at market-based rates; and the waiver of certain Commission regulations.

CAM Energy states that it intends to engage in wholesale electric power and energy purchases and sales as a marketer. CAM Energy also states that it is not in the business of generating or transmitting electric power. CAM Energy indicates that it is an independent electricity marketer with a sole purpose of buying and selling electricity in the wholesale electricity market.

Comment Date: May 2, 2003

7. Allegheny Power

[Docket No. ER03-738-000]

Take notice that on April 11, 2003, The Allegheny Power System Operating Companies: Monongahela Power Company, The Potomac Edison Company, and West Penn Power Company, all doing business as Allegheny Power; Atlantic City Electric Company; Delmarva Power & Light Company; Baltimore Gas and Electric Company; Jersey Central Power & Light Company; Metropolitan Edison Company; Pennsylvania Electric Company; PECO Energy Company; PPL Electric Utilities Corporation; Potomac Electric Power Company; Public Service Electric and Gas Company; Rockland Electric Company; and UGI Utilities, Inc., (PJM Transmission Owners) tendered for filing pursuant to Section 205 of the Federal Power Act a new Schedule 12 to the PJM Open Access Transmission Tariff (PJM Tariff), providing for the collection of charges that are established to recover costs of transmission enhancements or expansions ordered pursuant to PJM's Regional Transmission Expansion Planning Protocol (RTEPP).

The PJM Transmission Owners state that this filing is a necessary complement to PJM's March 20, 2003 compliance filing in Docket RT01-2-006, intended to incorporate economic upgrades into the PJM regional transmission expansion planning process and to create a cost recovery vehicle for all RTEPP-ordered enhancements under the PJM Tariff. The filing by the PJM Transmission Owners state that the filing provides the transmission rate component for the PJM Tariff mechanism. The PJM Transmission Owners are requesting an effective date 60 days after the date of filing, on June 10, 2003.

The PJM Transmission Owners states that copies of the filing have been served on PJM, all members of PJM, and all state electric utility regulatory commissions in the PJM region.

Comment Date: May 2, 2003.

8. El Dorado Irrigation District

[Docket No. ER03-739-000]

Take notice that on April 14, 2003, the El Dorado Irrigation District (EID) tendered for filing pursuant to 18 CFR 385.205, an Application for Order Accepting Rate Schedule, Granting Authorizations and Blanket Authority and Waving Certain Requirements.

EID states that it intends to engage in wholesale electric power and energy sales as a marketer. EID also states that it is a California Irrigation District providing water, wastewater and recycled water services within its service area located in the western slope of the Sierra Nevada in the county of El Dorado.

Comment Date: May 5, 2003.

9. PSEG Energy Technologies Inc.

[Docket ER03-740-000]

Take notice that on April 14, 2003, PSEG Energy Technologies Inc., (PSEG ET), filed with the Federal Energy Regulatory Commission (Commission) a Notice of Cancellation of its market-based rate tariff currently on file with the Commission and a request to waive any Commission regulations necessary to permit the cancellation to take effect immediately. PSEG ET states that it wishes to discontinue sales of power at market-based rates in interstate commerce.

Comment Date: May 5, 2003.

10. Northwestern Wisconsin Electric Company

[Docket No. ER03-741-000]

Take notice that on April 14, 2003, Northwestern Wisconsin Electric Company (NWEC), tendered for filing proposed changes in its Transmission Use Charge, Rate Schedule FERC No. 2. NWEC states that the proposed changes would decrease revenues from jurisdictional sales by $8,139.78 based on the 12 month period ending April 30, 2003. NWEC states it is proposing this rate schedule change to more accurately reflect the actual cost of transmitting energy from one utility to another based on current cost data. NWEC indicates that the service agreement for which this rate is calculated calls for the Transmission Use Charge to be reviewed annually and revised on May 1. NWEC requests this Rate Schedule Change become effective May 1, 2003.

NWEC states that copies of this filing have been provided to the respective parties and to the Public Service Commission of Wisconsin.

Comment Date: May 5, 2003.

11. RMKG, LLC

[Docket No. ER03-742-000]

Take notice that on April 14, 2003, RMKG, LLC, submitted for filing a Petition for Acceptance of Initial Rate Schedule, FERC No. 1. RMKG states it will engage in wholesale electric power and energy transactions as a marketer. RMKG requests that the rate schedule be effective sixty days after filing, or the date the Commission issues an order accepting the rate schedule, whichever occurs first.

Comment Date: May 5, 2003.

12. Virginia Electric and Power Company

[Docket No. ER03-743-000]

Take notice that on April 14, 2003, Virginia Electric and Power Company, doing business as Dominion Virginia Power, tendered for filing a revised Generator Interconnection and Operating Agreement (Revised Interconnection Agreement) between Dominion Virginia Power and CPV Cunningham Creek LLC (CPV) modifying certain definitions and the milestone dates in Appendices F and G. Dominion Virginia Power respectfully requests that the Commission accept the Revised Interconnection Agreement to allow it to become effective on April 15, 2003, the day after filing.

Dominion Virginia Power states that copies of the filing were served upon CPV and the Virginia State Corporation Commission.

Comment Date: May 5, 2003

13. Entergy Services, Inc.

[Docket No. ER03-744-000]

Take notice that on April 14, 2003, Entergy Services, Inc., on behalf of Entergy Operating Companies (Operating Companies) submitted a filing seeking approval of two life-of-unit power purchase agreements (the subject PPSs) between Entergy Louisiana, Inc., (ELI) as purchaser and Entergy Arkansas, Inc., (EAI) and Entergy Gulf States, Inc., (EGSI) as sellers.

Entergy Operating Companies states that copies of this filing have been served on the Arkansas Public Service Commission, the Mississippi Public Service Commission, the Louisiana Public Service Commission, the Public Utility Commission of Texas, and the Council of the City of New Orleans.

Comment Date: May 5, 2003.

14. Reliant Energy Bighorn, LLC

[Docket No. ER03-745-000]

Take notice that on April 14, 2003, Reliant Energy Bighorn, LLC (Reliant Bighorn) petitioned the Federal Energy Regulatory Commission (Commission) to grant certain blanket authorizations, to waive certain of the Commission's Regulations and to issue an order accepting Reliant Bighorn's FERC Electric Rate Schedule No. 1. Reliant Bighorn requested that the Commission approve its application on an expedited basis by May 21, 2003.

Comment Date: May 5, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-9896 Filed 4-21-03; 8:45 am]

BILLING CODE 6717-01-P